ENVIRONMENTAL PROTECTION AGENCY

[FRL-7797-2]

Local Resource Centers to Assist Public Entities Develop Environmental Management Systems (EMS)

AGENCY: Environmental Protection Agency.

ACTION: Notice and request for public comment.

SUMMARY: This Notice requests public comments on the efforts of the United States Environmental Protection Agency (EPA) to promote the adoption of environmental management systems (EMS) by local governments and other public entities through the establishment of EMS Local Resource Centers. EPA is seeking comments particularly from not-for-profit organizations interested in providing technical assistance to public entities that are considering adopting EMSs for their operations.

The EPA, through a cooperative agreement with the Global Environment and Technology Foundation (GETF), is interested in providing financial and technical assistance for up to three additional not-for-profit organizations who would then work with various public entities, primarily local governments, that are interested in developing EMSs. The financial and technical assistance provided to these not-for-profit organizations could include help with developing business plans, providing relevant EMS materials to facilitate each organization's existing EMS assistance activities, train-the-trainer sessions on ways to address the needs of public agencies, and other marketing services. Each not-for-profit organization would also gain increased attention, and recognition of the key role they can play in meeting the growing needs of public agencies wishing to adopt EMSs through a Web site managed by GETF at www.peercenter.net, and other means.

This Notice is soliciting comments from not-for-profit organizations interested in becoming part of an existing program involving seven organizations around the country. These EMS Local Resource Centers, which were first designated in 2002, are now working with public agencies around the country to educate and assist them to develop EMSs. A list of these Local Resource Centers and more information about their services can be found at www.peercenter.net. EPA, in cooperation with the Global Environment and Technology Foundation (GETF), is now interested in receiving comments and information from additional not-for-profit organizations that would be interested in serving as a Local Resource Center and providing EMS assistance to public entities. EPA is particularly interested in receiving comment from organizations located in areas of the country not now served by an existing EMS Local Resource Center in EPA Regions VII, VIII, and IX. Region VII includes the States of Missouri, Kansas, Nebraska, and Iowa. Region VIII includes the States of Colorado, Utah, Montana, Wyoming, North Dakota, and South Dakota. Region IX includes the States of California, Arizona, Nevada, Hawaii, and the U.S. Territories of Guam and Northern Mariana Islands.

DATES: Responses to this Notice, identified by docket identification (ID) number OW-2004-0018, must be received on or before September 7, 2004.

ADDRESSES: Comments may be submitted electronically, by mail, or through hand delivery/courier. Follow the instructions as provided in Section I of the SUPPLEMENTARY INFORMATION.

In addition, a copy of the comments should also be submitted to Nick Martin, Global Environment and Technology Foundation (GETF), 2900 South Quincy Street, Suite 410, Arlington, Virginia 22206, (703) 379-2713, Ext. 290, nmartin@getf.org.

FOR FURTHER INFORMATION CONTACT: Jim Horne, U.S. EPA, Office of Water, by phone at (202 564-0571, or by e-mail at horne.james@epa. gov.

SUPPLEMENTARY INFORMATION:

I. General Information

A. How Can I Get Copies of This Notice and Other Related Information?

1. Docket: EPA has established an official public docket for this Notice under Docket ID No. OW-2004-0018. The official public docket consists of the documents specifically referenced in this Notice, any public comments received, and other information related to this action. Documents in the official public docket are listed in the index list in EPA's electronic public docket and comments system, EDOCKET. Documents may be available either electronically or in hard copy. Hard copy documents may be viewed at the Water Docket in the EPA Docket Center (EPA/DC), EPA West, Room B-102, 1301 Constitution Avenue, NW., Washington, DC. The EPA Docket Center Public Reading Room is open from 8:30 a.m. to 4:30 p.m., Monday through Friday, excluding legal holidays. The telephone number for the Public Reading Room is (202) 566-1744, and the telephone number for the Water Docket is (202) 566-2426.

2. Electronic Access: Your may access this Federal Register document electronically through the EPA Internet under the Federal Register listings at http://www.epa.gov/fedregstr/. An electronic version of the public docket is available through EDOCKET. You may use EDOCKET at http://www.epa.gov.edocket/ to view public comments, access the index listing of the contents of the official public docket, and access those documents in the public docket that are available electronically. Once in the system, select “search,” then key in the appropriate docket identification number referenced above.

Certain types of information will not be placed in EDOCKET. Information claimed as Confidential Business Information (CBI) and other information whose disclosure is restricted by statute, and which is not included in the official public docket, will not be available for public viewing in EPA's electronic public docket. EPA's policy is that copyrighted material will not be placed in EPA's electronic public docket, but will be available only in printed, paper form in the official public docket. Publicly available docket materials that are not available electronically may be viewed at the docket facility identified in Section I.A.

For public commenters, it is important to note that EPA's policy is that public comments, whether submitted electronically or in paper, will be made available for public viewing in EPA's electronic public docket as EPA receives them and without change, unless the comment contains copyrighted material, confidential business information (CBI), or other information whose disclosure is restricted in statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic pubic docket along with a brief description written by the docket staff.

B. How and to Whom Do I Submit Comments?

You may submit comments electronically, by mail, or through hand delivery/courier. To ensure proper receipt by EPA, identify the appropriate docket identification number in the subject line on the first page of your comments. The docket identification number for this Notice is OW-2004-0018. Please ensure that your comments are submitted within the specified comment period. Comments received after the close of the comment period will be marked “late”. EPA is not required to consider these late comments.

1. Electronically. If you submit an electronic copy as prescribed below, EPA recommends that you include your name, mailing address, and an e-mail address or other contact information in the body of your comment. Also, include this contact information on the outside of any disk or CD ROM you submit, and in any cover letter accompanying the disk or CD ROM. This ensures you can be identified as the submitter of the comment and allows EPA to contact you in the case EPA cannot read your comment due to technical difficulties or needs further information on the substance of your comment. EPA's policy is that EPA will not edit your comment, and identifying or contact information provided in the body of the comment will be included as part of the comment that is placed in the official public docket, and made available in EPA's electronic public docket. If EPA cannot read your comment due to technical difficulties and cannot contact you for clarification, EPA may not be able to consider your comment.

i. EDOCKET. Your use of EPA's electronic public docket to submit comments electronically is EPA's preferred method for receiving comments. Go directly to EDOCKET at http://www.epa.gov/edocket, and follow the online instructions for submitting comments. Once in the system, select “search” and then key in the Docket ID No. OW-2002-0018. The system is an “anonymous access” system, which means EPA will not know your identify, e-mail address, or other contact information unless you provide it in the body of your comment.

ii. E-mail. Comments may be sent by electronic mail to OW-Docket@epa.gov, Attention Docket ID Number OW-2004-0018. In contrast to EPA's electronic public docket, EPA's e-mail system is not an “anonymous access” system. If you send e-mail comments directly to the docket without going through EPA's electronic public docket, EPA's e-mail system automatically captures your e-mail address. E-mail addresses that are automatically captured in EPA's e-mail system are included as part of the comment that is placed in the official public docket, and made available in EPA's electronic public docket.

iii. Disk or CD ROM. You may also submit comments on a disk or CD ROM that you mail to the mailing address identified in Unit I.A.1. These electronic submissions will be accepted in WordPerfect or ASCII file format. Please avoid the use of special characters and any form of encryption.

2. By Mail. Send your comments to: Water Docket, Environmental Protection Agency, Mailcode: 4101T, 1200 Pennsylvania Ave., NW., Washington, DC, 20460.

Attention: Docket ID No. OW-2004-0018.

Finally, please provide an additional copy of your submission to: Nick Martin, Global Environment and Technology Foundation (GETF), 2900 South Quincy Street, Suite 410, Arlington, Virginia 22206, nmartin@getf.org.

3. By Hand Delivery or Courier. Deliver your comments to: Public Reading Room, Room B-102, Attention Docket ID No. OW-2004-0018, EPA West Building, 1301 Constitution Ave., NW., Washington, DC 20004. Such deliveries are only accepted during the Docket's normal hours of operation as identified in Unit I.A.1.

Regardless of the method you choose, please provide the name of a person in your organization that EPA may contact, along with that person's mailing address, phone number, and E-mail address. This information is needed for EPA to selectively follow up with commenters, as explained in the Section V. of this Notice.

II. Background

Public entities, including local governments and local authorities, are responsible for managing and maintaining large-scale physical plants. These may include power systems, wastewater treatment operations, water systems, and roadways. Local authorities are also responsible for managing solid and hazardous waste. As the front line implementers of environmental programs, they protect the health and safety of hundreds of millions of citizens. Faced with shrinking resources and aging infrastructure, public entities must manage their operations in a more efficient manner, at lower cost, and with less environmental impact. EMSs are an important emerging tool to help public entities do this.

EMSs follow Stewart and Deming's plan, do, check and act systems methodology and can be implemented by organizations of all sizes and types. They provide a set of problem identification and problem-solving tools that can be implemented in an organization in many different ways, depending on its activities and needs. Based on the organization's core values, business goals, and environmental commitments, employees examine their environmental footprint and the procedures they use to manage environmental issues. They incorporate strong operational controls and environmental responsibilities into existing job descriptions and work instructions. They set measurable objectives and targets, monitor, measure, and evaluate progress, find and fix environmental problems as they occur, and provide top management with a feedback loop to assess progress and make appropriate changes to the management system. The various elements of the EMS work together to provide opportunities to continually improve management of environmental impacts both in regulated areas and in areas that are not regulated (e.g., odor, water or electricity use, and growth management).

Key elements of the EMS include:

• An environmental policy statement endorsed and actively promoted by senior management;

• A planning process that identifies the organization's environmental impacts and integrates their management into the organization's regular business and operations decisions;

• An organizational structure that places environmental responsibilities directly with employees in operational functions that deal with significant environmental impacts;

• An implementation process that stresses training, communication, operational controls, and reaching measurable goals—all oriented toward reducing risks of significant environmental impacts and continually improving environmental management;

• Measurement and auditing procedures that focus on finding and fixing problems and reducing the chances of their recurring; and,

• Periodic top management review of the EMS to ensure continual improvement.

Since 1996, the most commonly used framework for an EMS is the ISO 14001 Environmental Management Standard developed by the International Organization for Standardization (ISO). The ISO was established in 1947 with the mission of developing voluntary technical standards to promote international trade in goods and services.

For the last several years the EPA has been promoting the adoption of EMSs to help public entities, particularly local governments, improve their environmental performance beyond compliance, prevent pollution, promote greater environmental stewardship across the workforce, and improve their overall efficiency. EPA has issued an overall EMS Position Statement and is using EMSs in a wide variety of voluntary programs. More information about EPA's position on EMSs can be found at www.epa.gov/ems.

The EPA's Office of Water (OW) has played a leadership role in bringing EMS capacity to local governments. This leadership has continued and expanded to include other Headquarters and Regional Offices. Since 1997, through a cooperative agreement with GETF, OW has supported three EMS initiatives helping local governments test the applicability and benefits of an EMS on environmental performance, compliance, pollution prevention, and stakeholder involvement in government operations. In total, 32 local governments have participated in developing and implementing their own EMSs through these two initiatives.

The agencies participating in these three initiatives have realized a wide range of benefits including improved environmental performance and compliance, reduced operational costs, increased recycling, improved relations with their communities and regulatory agencies, and improved operational controls and internal communication. More information about these projects and the specific benefits the participating agencies have seen can be found at www.peercenter.net.

III. The National Public Entity EMS Resource Center: The Peer Center

The EMS initiatives described above have helped to demonstrate the relevance of EMSs in the public sector and established a solid basis for expanding EMS adoption for public agencies, especially local governments. The strong enthusiasm and tangible environmental results demonstrated through these initiatives suggest substantial long-term benefits from EMS implementation and ensure the parallel development of sustainable management practices in both the private and public sectors. Public entity EMS implementation has sparked interest from government leaders around the world. Building on the successes of these efforts, EPA, through a cooperative agreement with GETF, launched the National Public Entity Environmental Management System Resource Center—the National PEER Center in 2002.

The PEER Center's goals are three-fold:

• To promote the understanding and adoption of EMSs by public entities;

• To facilitate peer-to-peer exchange of information and experiences and build awareness of EMSs as a tool to improve environmental performance; and

To build regional EMS competence and technical assistance capacity through EMS Local Resource Centers.

The PEER Center consists of two major components: A national clearinghouse and seven EMS Local Resource Centers.

National Clearinghouse of EMS Information

The National PEER Center Clearinghouse is currently in place (www.peercenter.net) and link users to a national database of key resources such as sample EMS documentation, local and state EMS programs in place, EMS service providers, detailed descriptions of the EMS implementation phases, trainers, mentors and course providers, as well as training materials, web links, contact information, and case studies. The Clearinghouse also serves to clarify the elements of environmental management systems and programs. It provides case studies, reports, implementation guidance, and other information to help public entities understand EMSs, their potential benefits, and ways to develop them for various operations.

EMS Local Resource Centers

Critical to the effectiveness and success of the PEER Center are seven existing EMS Local Resource Centers (LRCs) that advance the use of EMSs in public entities. Building on individual EMS skills and competencies, and leveraging the successes and skills of the other LRCs and the National PEER Center, each LRC serves as a high-quality EMS resource center for the public entities in their area. The LRCs facilitate information transfer, provided training, and government-to-government mentoring in order to maximize public entities' time and resource investment in EMS implementation. The joint efforts of the National PEER Center and the LRCs are helping an increasing number of public entities, particularly local governments, that develop EMSs for various operations. More information about each Center can be found at www.peercenter.net.

Activities that the existing Centers are currently providing include:

• Leveraging their existing EMS expertise to provided training, technical assistance, tools and materials that will facilitate EMS implementation on the public sector;

• Using their data, information, resources and key contacts to encourage EMS information transfer and facilitate government-to-government mentoring;

• Leading regular and frequent outreach activities to increase awareness and understanding of EMS applicability among public entities in their local/regional area;

• Collecting data and information and preparing case studies about EMS implementation in public entities and assisting in the dissemination of this information across public organizations;

• Facilitating information transfer between the PEER Center Clearinghouse and other Local Resource Centers to ensure access to the most current data, information, tools, keys to success, and lessons learned; and

• Facilitating EMS workshops and conferences in their local/regional area

Based on the experiences of these existing Centers, EPA is interested in receiving feedback from other not-for-profit organizations that are already providing some degree of EMS services in their respective areas, and may now wish to become a Local Resource Center. EPA is especially interested in hearing from organizations in areas of the country not now served by an existing Center, primarily in EPA Regions VII, VIII, and IX. Any additional Local Resource Center will be expected to offer a menu of EMS services, including: EMS training, technical expertise, field-tested tools, information, speakers/mentors, workshops and conferences, outreach, and EMS implementation assistance.

IV. Benefits of Becoming a Local Resource Center

Each Local Resource Center will receive, at no cost, extensive start-up support, including a full catalogue of EMS implementation tools from GETF and materials that have already been field-tested and used in the public sector, including:

• National attention, visibility, and partnership opportunities from EPA, GETF, and other partners and stakeholders;

• Assistance in developing a business plan, and business development materials;

• An extensive suite of field-tested, high-quality and successful materials for public entities: training techniques, implementation strategies, document samples, outreach and presentation toolkits;

• Regular train-the-trainer work sessions on EMS implementation in public sector organizations with other LRCs and national partners;

• An extensive database of national mentors and experts with hands-on experience to assist in local/regional EMS outreach and implementation;

• Support services and mentoring from existing public entities that are implementing an EMS; and

• Assistance with marketing services and opportunities.

V. Opportunity To Provide Comment For consideration as an EMS Local Resource Center

Based on the information provided above, EPA is interested in receiving public comment from not-for-profit organizations that may wish to serve as an EMS Local Resource Center, especially organizations located in areas not now served by an existing Center, primarily in EPA Regions VII, VIII, and IX. Based on these comments up to three additional not-for-profit organizations could participate with the other Centers and provide high quality EMS assistance to public entities, especially local governments. Providing comment based on this Notice does not guarantee that the organization will participate.

When reviewing comments, EPA considers a number of factors.

The most important of these include: (1) A clear understanding of EMSs, (2) demonstrated experience and delivery mechanisms in providing EMS services to various organizations, (3) commitment by the organization's top management to the goals of the PEER Center initiative, (4) adequate staffing to support both start up and ongoing activities, (5) a willingness to proactively reach out to public entities in their area, (6) strong web literacy and functionality, and (7) a willingness and ability to share data and other information with other Local Resource centers and the PEER Clearinghouse.

Organizations are also encouraged to provide a more general statement outlining why they are interested in becoming a Local Resource Center and describing how their participation could benefit the program as a whole. Finally, organizations are encouraged to provide a letter from top management accompanying their comments that includes the name and contact information of the individual that would represent your organization on possible follow up calls with GETF.

Following the receipt of this feedback, staff from GETF may schedule follow up calls, as appropriate, with each applicant's management and appropriate staff at a mutually convenient time and will consult with EPA. Following this, staff from GETF will begin work with each new Local Resource Center to develop business plans, materials, processes, marketing strategies, information transfer, data collection, etc.

Dated: July 29, 2004.
Jane S. Moore,
Acting Director, Office of Wastewater Management.

[FR Doc. 04-17789 Filed 8-4-04; 8:45 am]

BILLING CODE 6560-50-M